DEPARTMENT OF TRANSPORTATION

Federal Aviation Administration

Notice of Public Hearing and Availability of a Draft Environmental Assessment (DEA) for the Proposed Runway 22R/4L Offset ILS at Detroit Metropolitan Wayne County Airport (DTW) Located in Romulus, Detroit

AGENCY: Federal Aviation Administration (FAA), DOT.

ACTION: Notice to Hold a Public Hearing and of Availability of a Draft Environmental Assessment for the Proposed Runway 22R/4L Offset ILS at Detroit Metropolitan Wayne County Airport.

SUMMARY: The Federal Aviation Administration (FAA) has prepared and is making available the Draft Environmental Assessment (DEA) for the following proposed actions at the Detroit Metropolitan Wayne County Airport: the development and use of the offset ILS approach procedures for Runways 22R and 4L, the installation of two (2) offset localizers, the construction of localizer buildings and associated equipment, the construction of an access road, the installation of multilateration equipment including 32 precision runway monitors (Precision Runway Monitors), the installation of Airport Surveillance Detection Equipment (ASDE), the installation of the four Aerobahn multilateration subsystem components on airport property, the reissuance of aeronautical charts with the 22R/4L offset ILS approach information, the issuance of National Airspace System (NAS) Change Proposal (NCP) waivers associated with design and installation of the preceding, the development, issuance, and implementation of Air Traffic procedures, flight check and testing of proposed equipment, and funding for development and implementation of the proposed action.

The Draft EA is being prepared in accordance with the National Environmental Policy Act (NEPA) of 1969, as amended, FAA Orders 1050.1E, “Environmental Impacts: Policies and Procedures” and FAA Order 505.4B, “NEPA Implementing Instructions for Airport Actions”. The proposed development action is consistent with the National Airspace System Plan prepared by the U.S. Department of Transportation, Federal Aviation Administration (FAA).

A Draft Environmental Assessment will be available for public review 30 days prior to the Public Hearing during normal business hours at the following locations:

(1) Romulus Public Library, 11121 Wayne Rd., Romulus, MI 48174, (734) 942-7589.

(2) Wayne City Public Library, 3737 S. Wayne Rd., Wayne, MI 48184, (734) 721-7832.

(3) Taylor Community Library, 12303 Pardee Rd., Taylor, MI 48180, (734) 287-4840.

(4) Inkster Public Library, 2005 Inkster Rd., Inkster, MI 48141, (313) 563-2822.

(5) Wayne County Library, 30555 Michigan Ave., Westland, MI 48186, (734) 727-7310.

Dates, Times and Place: Oral or written comments may also be given at a Public Hearing that will be held on Thursday, November 16, 2006, from 3 p.m. to 7 p.m. at the Detroit Metropolitan Hotel, 31500 Wick Road, Romulus, Michigan 48174. Telephone number: 734-467-8000.

ADDRESSES: Written comments are encouraged from persons or interested parties unable to attend the public hearing or who do not wish to make public statements. Written comments concerning the Draft EA will be accepted until 5 p.m. CST, Wednesday, November 22, 2006. Written comments may be sent to: Ms. Virginia Marcks, Environmental Engineer, ANI-430, Federal Aviation Administration, 2300 East Devon Avenue, Des Plaines, IL 60018.

FOR FURTHER INFORMATION CONTACT: Ms. Virginia Marcks, Environmental Engineer, ANI-430, Federal Aviation Administration, 2300 East Devon Avenue, Des Plaines, Illinois 60018. Telephone number; 847-294-7494.

SUPPLEMENTARY INFORMATION:

Background

The FAA proposes to provide for an offset to the DTW Runway 22R/4L Instrument Landing System (ILS) approach that would be used to reduce traffic delays at DTW by eliminating the need to stagger aircraft during inclement weather conditions thereby improving the Airport Acceptance Rate (AAR) during Instrument Meteorological Conditions (IMC). During Visual Meteorological Conditions (VMC) and times when triple simultaneous independent approaches during IMC are not necessary the airport would continue to operate as it does today with straight in approaches.

The lateral distance from Runway 22R/4L to its nearest parallel runway, Runway 22L/4R, at DTW is not sufficient to safely conduct triple dependent/independent ILS approaches other than in visual flight conditions. During IMC, air traffic separation standards require greater distance between aircraft, this reduces the number of arrivals an airports is capable of accepting each hour.

When weather conditions do not permit simultaneous visual approaches, increased air traffic delays could occur at DTW which could result in delays at other airports and significant costs to the airline industry.

Precision runway monitoring is a function that supports Air Traffic in monitoring simultaneous closely spaced approaches to parallel runways separated by less than 4,300 feet. When used with the appropriate air traffic procedures precision runway monitoring enables operations in which aircraft are allowed to fly shorter separation distances than otherwise permitted during IMC. This reduction in separation during IMC would reduce delays at DTW by allowing Air Traffic to conduct triple independent simultaneous straight-in ILS approaches to Runways 22L/22R/21L using precision runway monitoring capability, and offset localizer approaches to Runway 22R/4L. This entails compliance with a combination of rules of FAA Order 7110.6P, Air Traffic Control.

The DEA includes an assessment of the potential environmental impacts associated with the proposed ILS offset at DTW and reasonable alternatives pursuant to the National Environmental Policy Act. The analysis in the DEA disclosed that there would be a total of 5.14 acres of wetland impacts with the implementation of the Proposed Action. However, it would be possible to mitigate these impacts with the replacement of wetland functions through the creation or restoration of wetlands.

Meeting Procedures

(a) Persons wishing to speak at the meeting are asked to limit their comments to five minutes. This cold be extended depending on the number of persons wishing to speak.

(b) Persons wishing to make oral presentations will be required to identify themselves for the record.

(c) A court reporter will be present to document and record the proceedings of the meeting and a transcript of the proceedings will be made. Any person who wishes to submit documentation or other written comments for the record may do so.

(d) This meeting is designed for listening carefully to public statements. As such, there will be no rebuttal from persons facilitating the meeting.

Issued in Des Plaines, Illinois October 2, 2006.
Art V. Schultz,
Acting Manger, Chicago NAS Implementation Center, ANI-401, Central Service Area.

[FR Doc. 06-8615 Filed 10-11-06; 8:45 am]

BILLING CODE 4910-13-M